NUCLEAR REGULATORY COMMISSION

Request To Amend a License for the Export of Radioactive Waste

Pursuant to 10 CFR 110.70(b) “Public Notice of Receipt of an Application,” please take notice that the Nuclear Regulatory Commission (NRC) has received the following request to amend an export license. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139 (Aug. 28, 2007). Information about filing electronically is available on the NRC's public Web site at http://www.nrc.gov/site-help/e-submittals.html. To ensure timely electronic filing, at least 5 (five) days prior to the filing deadline, the petitioner/requestor should contact the Office of the Secretary by e-mail at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to the Office of the Secretary, U.S. Nuclear Regulatory Commission, Washington, DC 20555, Attention: Rulemaking and Adjudications.

The information concerning the application follows.

NRC Application to Amend License for the Export of Radioactive Waste
Name of Applicant, date of Application, date received, application No., docket No. | Description of material: Material type | Description of material: Total quantity | End use | Recipient country
Diversified Scientific Services, Inc. (DSSI), February 26, 2009, February 27, 2009, XW008/03, 11005323 | Class A radioactive mixed waste | License to be amended to: (1) Extend the expiration date from 03/31/09 to 12/31/13; and (2) add authorization to export any waste generated as a result of processing materials imported from Atomic Energy of Canada, Limited (AECL) under IW012, as amended | Return of non-conforming waste and/or waste resulting from processing materials imported to AECL for appropriate disposition | Canada.

For the Nuclear Regulatory Commission.
Dated this 30th day of April 2009 at Rockville, Maryland.
Scott W. Moore,
Deputy Director, Office of International Programs.

[FR Doc. E9-10610 Filed 5-6-09; 8:45 am]

BILLING CODE 7590-01-P